SMALL BUSINESS ADMINISTRATION

[Disaster Declaration # 11162]

Kansas Disaster # KS-00025

AGENCY: U.S. Small Business Administration.

ACTION: Notice.

SUMMARY: This is a Notice of the Presidential declaration of a major disaster for Public Assistance Only for the State of Kansas (FEMA-1741-DR), dated 02/01/2008.

Incident: Severe Winter Storms.

Incident Period: 12/06/2007 through 12/19/2007.

DATES: Effective Date: 02/01/2008.

Physical Loan Application Deadline Date: 04/02/2008.

ADDRESSES: Submit completed loan applications to: U.S. Small Business Administration, Processing and Disbursement Center, 14925 Kingsport Road, Fort Worth, TX 76155.

FOR FURTHER INFORMATION CONTACT: M. Mitravich, Office of Disaster Assistance, U.S. Small Business Administration, 409 3rd Street, Suite 6050, Washington, DC 20416.

SUPPLEMENTARY INFORMATION: Notice is hereby given that as a result of the President's major disaster declaration on 02/01/2008, Private Non-Profit organizations that provide essential services of a governmental nature may file disaster loan applications at the address listed above or other locally announced locations.

The following areas have been determined to be adversely affected by the disaster:

Primary Counties: Atchison, Barber, Barton, Brown, Butler, Chase, Cherokee, Clark, Clay, Cloud, Comanche, Crawford, Dickinson, Doniphan, Edwards, Ellis, Ellsworth, Ford, Geary, Graham, Harvey, Hodgeman, Jackson, Jefferson, Jewell, Kingman, Kiowa, Labette, Leavenworth, Lincoln, Lyon, Marion, Marshall, Mcpherson, Miami, Mitchell, Morris, Nemaha, Osage, Osborne, Ottawa, Pawnee, Phillips, Pottawatomie, Pratt, Reno, Republic, Rice, Riley, Rooks, Rush, Russell, Saline, Sedgwick, Shawnee, Smith, Stafford, Wabaunsee, Washington, Woodson.

The Interest Rates are:

| Percent
Other (Including Non-Profit Organizations) With Credit Available Elsewhere | 5.250
Businesses and Non-Profit Organizations Without Credit Available Elsewhere | 4.000

The number assigned to this disaster for physical damage is 11162.

(Catalog of Federal Domestic Assistance Number 59008)

Herbert L. Mitchell,
Associate Administrator for Disaster Assistance.

[FR Doc. E8-2560 Filed 2-11-08; 8:45 am]

BILLING CODE 8025-01-P